Proclamation 10067 of August 31, 2020

National Preparedness Month, 2020

By the President of the United States of America

A Proclamation

During National Preparedness Month, we pause to reflect on the importance of mitigating the effects of disasters and tragedies on our lives by devoting time and resources to being prepared. As we observe National Preparedness Month this September, I encourage all Americans to take intentional, precautionary measures to ensure the resilience of their families, homes, communities, and businesses.

Over the last year, our Nation has endured and persevered through many threats. Last week, hurricane Laura struck the Gulf Coast and affected the lives of millions in Louisiana, Texas, Arkansas, and Mississippi. My Administration is monitoring Federal response efforts and coordinating with State and local authorities to provide aid to the affected areas. In recent months, we have also responded to the coronavirus pandemic with unparalleled vigor and resolve, leveraging historic partnerships between the public and private sectors to produce and provide needed medical equipment and to develop therapeutics and a vaccine. We remain committed to safely reopening our country while protecting the most vulnerable among us. We have also faced wildfires, earthquakes, and storms, including a devastating weather system on Easter Sunday of this year that spawned more than 120 tornadoes in the southeastern United States. Despite the unprecedented nature and scope of the challenges we have faced, the American people have remained resolute in their determination to overcome any adversity. My Administration will continue to work with State, local, tribal, and territorial partners to ensure the country is prepared to meet any challenges that may arise.

National Preparedness Month is also an opportunity to reiterate our gratitude for the selfless service of the brave men and women who help prepare our Nation for disasters and take action when they strike. Our first responders, critical infrastructure and other frontline workers, and disaster response volunteers often take great personal risks to perform their duties. These patriots are essential to the security of our Nation, and we remain committed to supporting them in their mission.

Promoting a culture of resilience through preparedness helps enable communities and individuals to take the preparatory actions necessary to overcome the threats and hazards that present themselves. The Federal Emergency Management Agency's Ready Campaign, which can be found by accessing Ready.gov, can help all Americans prepare for crisis situations. This easy-to-use response can help individuals and families create an emergency fund for unexpected expenses, set up a designated shelter area within a home, subscribe to local emergency alerts on mobile devices, and determine a reliable out-of-town contact during times of crisis. By taking these steps, people can mitigate damage and speed up recovery efforts across the country when disaster strikes.

During National Preparedness Month, I encourage all Americans to adopt a proactive mindset and take the necessary steps to prepare their families and communities to withstand and recover from unexpected events. We cannot always know when the next crisis will occur, but we can know that we will be prepared by committing ourselves to a culture of resilience.

NOW, THEREFORE, I, DONALD J. TRUMP, President of the United States of America, by virtue of the authority vested in me by the Constitution and the laws of the United States, do hereby proclaim September 2020 as National Preparedness Month. I encourage all Americans, including Federal, State, tribal, and local officials, to take action to be prepared for a disaster or an emergency by making and practicing their emergency response plans. Each step we take to become better prepared makes a real difference in how our families and communities will respond and persevere when faced with the unexpected.

IN WITNESS WHEREOF, I have hereunto set my hand this thirty-first day of August, in the year of our Lord two thousand twenty, and of the Independence of the United States of America the two hundred and forty-fifth.

[FR Doc. 2020-19751

Filed 9-2-20; 11:15 am]

Billing code 3295-F0-P